DEPARTMENT OF DEFENSE

Department of the Army, Corps of Engineers

Notice of Availability for the Draft Environmental Impact Statement/Environmental Impact Report for a Permit Application for the Proposed Salton Sea Species Conservation Habitat Project at the Salton Sea, in Imperial County, CA

AGENCY: Department of the Army—U.S. Army Corps of Engineers, Los Angeles District, DoD.

ACTION: Notice of Availability.

SUMMARY: The U.S. Army Corps of Engineers, Los Angeles District (Regulatory Division), in coordination with the California Natural Resources Agency, has completed a Draft Environmental Impact Statement/Environmental Impact Report (EIS/EIR) for the Salton Sea Species Conservation Habitat (SCH) Project. The Natural Resources Agency is requesting a permit from the Corps of Engineers to discharge dredged or fill material into the Salton Sea, a water of the United States subject to the Corps jurisdiction under section 404 of the Clean Water Act, including permanent impacts up to 24 acres and temporary impacts up to 1,760 acres for the construction of up to 3,770 acres of shallow ponds and associated infrastructure at the southern end of the Salton Sea in Imperial County, California. Compared to existing conditions, the SCH Project would result in a net increase in the extent of jurisdictional aquatic resources by up to 1,986 acres because the ponds would restore such resources located between elevation −228 feet and −231 feet previously lost by the receding Sea.

Draft EIS/EIR Comment Process. In an effort to follow sustainable business practices, the Draft EIS/EIR can be downloaded in electronic format from the Natural Resources Agency—Department of Water Resources' Web site: http://www.water.ca.gov/saltonsea/. A hardcopy of the Draft EIS/EIR and documents referenced in the Draft EIS/EIR can be viewed at the following location: California Department of Fish and Game, 78078 Country Club Drive, Suite 109, Bermuda Dunes, CA 92203. In addition, the hardcopy Draft EIS/EIR can be viewed at the following public locations: Brawley Public Library, 400 Main Street, Brawley, CA 92227; Calipatria Public Library, 225 West Main Street, Calipatria, CA 92233; Imperial Public Library, 200 West 9th Street, Imperial, CA 92251; El Centro Public Library, 375 South 1st Street, El Centro, CA 92243; Imperial County Free Library, 2098 Frontage Road, Salton City, CA 92275; Mecca-North Shore Public Library, 91-260 Avenue 66, Mecca, CA 92254; and Coachella Branch Library, 1538 7th Street, Coachella, CA 92236.

The Corps and the Natural Resources Agency invites interested parties to attend one of the jointly held public hearings to provide the agencies with their views and comments on the Draft EIS/EIR. Comments on the content of the Draft EIS/EIR by Federal, State, and local agencies, affected Indian tribes, and other interested organizations and persons are encouraged and will be considered by the Corps and the Natural Resources Agency and become part of the administrative record for the Corps' decision. The public hearings will be held at:

1. Calipatria—September 14, 2011 at 1 P.M. at the Calipatria Inn and Suites, 700 North Sorenson Avenue, Calipatria, CA 92233.

2. Brawley—September 14, 2011 at 6 P.M. at Elks Lodge #1420, 161 South Plaza, Brawley, CA 92227.

3. Palm Desert— September 15, 2011 at 1 P.M. at the University of California, 75-080 Frank Sinatra Drive, Room B200, Palm Desert, CA 92211.

In order for the Corps and the Natural Resources Agency to more accurately process and respond to comments, an online e-form is provided on the Natural Resources Agency—Department of Water Resources' Web site http://www.water.ca.gov/saltonsea/ and is the preferred method of receiving comments from interested parties. Alternatively, written comment letters can be provided directly to Ms. Lanika Cervantes or Mr. David Elms at the addresses listed below.

FOR FURTHER INFORMATION CONTACT: Written comments concerning the Draft EIS/EIR should be directed to Ms. Lanika Cervantes, Project Manager, U.S. Army Corps of Engineers, Los Angeles District, Regulatory Division, San Diego Field Office, ATTN: CESPL-RG-S-2010-00142-LLC, 6010 Hidden Valley Road, Suite 105, Carlsbad, CA 92011, (760) 602-4838. Comments also can be directed to: Mr. David Elms, California Department of Fish and Game Project Manager, California Department of Fish and Game, 78078 Country Club Drive, Suite 109, Bermuda Dunes, CA 92203, (760) 200-9372. For additional information, please call Rick Davis of the Davis Group at (760) 610-2072 or e-mail CAFishandGame@davisgroupca.com. Alternatively, you may contact the Corps and DFG project managers identified above.

SUPPLEMENTARY INFORMATION: This Draft EIS/EIR has been filed with the Environmental Protection Agency to be published in the Federal Register. The review period for the Draft EIS/EIR will begin from the date of publishing the Notice of Availability in the Federal Register, which is expected to be on August 17, 2011. Comments on the Draft EIS/EIR will be accepted 60 days later, until October 17, 2011.

Dated: August 8, 2011.
R. Mark Toy, P.E.,
Colonel, US Army, Commander and District Engineer.

[FR Doc. 2011-21239 Filed 8-18-11; 8:45 am]

BILLING CODE 3720-58-P